DEPARTMENT OF DEFENSE

Department of the Army

Proposed Mandatory Use of USBank's PowerTrack System by DOD Freight Carriers

AGENCY: Military Traffic Management Command, DoD.

ACTION: Notice.

SUMMARY: The Military Traffic Management Command (MTMC), as the Department of Defense (DOD) Traffic Manager for surface and surface intermodal traffic management services, proposes the mandatory use of PowerTrack as a transaction and payment system for all DOD freight carriers.

DATES: Comments must be submitted on or before October 3, 2000. Proposed effective dates for mandatory use of PowerTrack are: November 30, 2000 for air (includes small package express freight shipments), barge, pipeline, rail and sealift carries, and December 31, 2000, or all Guaranteed Traffic carriers.

ADDRESSES: Comments may be sent as follows: by fax: 703-428-3397 attn: Jerome Colton by e-mail: coltonj@mtmc.army.mil by mail or courier to: Headquarters, Military Traffic Management Command, ATTN: MTOP-MRM (Jerome Colton),Hoffman Building II, 200 Stovall Street, Alexandria, VA 22332-5000.

FOR FURTHER INFORMATION CONTACT: Mr. Jerome Colton at 703-428-2384, e-mail moneypennyk@mtmc.army.mil.

SUPPLEMENTARY INFORMATION: A notice announcing the DOD Management Reform Memorandum #15 (MRM15) directed reengineering of the DOD transportation documentation and financial processes was published in the Federal Register, Vol. 64, No. 14, p. 3488, Friday, Jan 22, 1999. Through a joint effort, the DOD transportation and financial communities, in conjunction with the commercial transportation industry, have developed an electronic acquisition and payment process, which uses commercial documentation to procure and pay for transportation services. Over the past three years, DOD, in conjunction with the commercial transportation industry, has taken several major steps toward adopting transportation industry commercial practices. Specifically, the DOD is eliminating government unique documentation, including freight Government Bills of Lading and military manifests for commercial Sealift movement. Several prototypes have been conducted with commercial carriers. These prototypes tested the reenginerred process in a demanding but controlled environment. Based on the success of the prototypes, Dr. John J. Hamre, Deputy Secretary of Defense, directed the implementation of PowerTrack service for commercial transportation of freight movements within the United States, worldwide air movements, and Sealift intermodal service. PowerTrack, a product of US Bank, Inc., is an online payment and transaction system that is projected to reduce the payment cycle from an average of 60 days to 3 days from notification that service has been performed. PowerTrack effectively supports up-front pricing, facilitates the exchange of electronic information between shipper and carrier, and provides an automated payment and reconciliation tool. These changes will streamline procedures, reduce paperwork, and eliminates the need for Government payment centers dedicated to paying transportation services.

PowerTrack is now being used for the majority of DOD's freight shipments both in terms of number of shipments and in terms of dollar value. Today over 300 commercial carriers utilize PowerTrack. These carriers haul approximately 95% of DOD's freight traffic. Based on the success of the MRM 15 reengineering initiative, DOD wishes to expedite implementation of PowerTrack to all commercial carriers doing business with DOD. Accordingly, it is proposed that effective November 30, 2000, all remaining carriers, to include, air express, air freight, barge, pipeline, rail and sealift carriers wishing to transport freight for the DOD must have an agreement with US Bank and be PowerTrack certified for the electronic payment of commercial transportation services. It is important that interested carriers begin the PowerTrack signup process by calling US Bank at 1-800-417-1844. Additional information on PowerTrack is available at www.usbank.com/powertrack.

If the proposed schedule implementing mandatory use of PowerTrack is adopted, the following actions will be taken effective:

November 30, 2000—For all carriers in the categories listed above that are not PowerTrack capable, their voluntary and negotiated rate tenders on file will be placed in a nonuse status. Carriers with non-binding contracts will not be used for DOD freight movements. MTMC will work with carries to modify those contracts that do not contain the PowerTrack requirement in an effort to meet the November 30, 2000 implementation date.

December 31, 2000—For carriers participating in Guaranteed Traffic (GT) movements, carriers that are not PowerTrack capable will not be considered for GT awards beyond this date. Carriers that are not PowerTrack capable but are currently performing under GT awards will be allowed to continue performance until expiration of the contract period. MTMC may, with the carrier's agreement, extend a GT award if required for operational reasons. Only those carriers that are PowerTrack certified will be eligible for the extension of Guaranteed awards after December 31, 2000.

Regulatory Flexibility Act

This change is not considered rule making within the meaning of the Regulatory Flexibility Act, 5 U.S.C. 601-612.

Paperwork Reduction Act

The Paperwork Reduction Act, 44 USC 3501 et seq., does not apply because no information collection requirements or recordkeeping responsibilities are imposed on offerors, contractors, or members of the public.

Thomas Hicks,
Assistant Deputy Chief of Staff for Operations and Plans.

[FR Doc. 00-19796 Filed 8-3-00; 8:45 am]

BILLING CODE 3710-08-M